DEPARTMENT OF THE INTERIOR

National Park Service

Announcement of Subsistence Resource Commission Meeting

AGENCY: National Park Service.

SUMMARY: Notice is hereby given in accordance with the Federal Advisory Committee Act that a joint meeting of the Cape Krusenstern National Monument and Kobuk Valley National Park Subsistence Resource Commissions will be held on Wednesday, June 26, 2002, and Thursday, June 27, 2002, at the U. S. Fish and Wildlife Service Office in Kotzebue, Alaska.

The meeting will be open to the public. Any person may file with the Commission a written statement concerning the matters to be discussed. The purpose of the meeting will be to continue work on currently authorized and proposed National Park Service subsistence hunting program recommendations including other related subsistence management issues.

The following agenda items will be discussed:

1. Call to order (SRC Chairs).

2. SRC Roll Call and Confirmation of Quorum.

3. SRC Chairs and Superintendent's Welcome and Introductions.

4. Review and Adopt Agenda.

5. Review and adopt minutes from last meeting.

6. Review Commission Purpose.

7. Status of Membership.

8. Superintendent's Report.

9. Old Business:

(a) October 2001 Chairs Workshop Report.

(b) Status of Hunting Program Recommendations.

(c) Customary Trade.

10. Review Federal Wildlife and Fisheries Management Regulatory Actions.

11. Public and Agency Comments.

12. Work Session (comment on issues, develop new recommendations, prepare letters).

13. Set time and place of next SRC meeting.

Adjournment

DATES: The meeting will be held from 9 a.m. to 5 p.m. on Wednesday, June 26, 2002 and Thursday, June 27, 2002.

ADDRESSES: The meeting will be held at the U.S. Fish and Wildlife Service Office (Conference Room) in Kotzebue, Alaska, Telephone (907) 442-3799.

FOR FURTHER INFORMATION CONTACT: Persons who want further information concerning the meeting may contact Superintendent David W. Spirtes at P.O. Box 1029, Kotzebue, Alaska 99752, at (907) 442-8301 or 800—478-7252 or Ken Adkisson, Subsistence Manager, at (907) 443-6104 or 800-471-2352.

SUPPLEMENTARY INFORMATION: The Subsistence Resource Commissions are authorized under Title VIII, Section 808, of the Alaska National Interest Lands Conservation Act, Public Law 96-487, and operation in accordance with the provisions of the Federal Advisory Committees Act. Draft minutes of the meeting will be available for public inspection approximately six weeks after the meeting from: Superintendent—National Park Service, P.O. Box 1029, Kotzebue, Alaska 99752, Telephone (800)—478-7252.

Judith C. Gottlieb,
Acting Regional Director, National Park Service, Alaska Region.

[FR Doc. 02-12565 Filed 5-17-02; 8:45 am]

BILLING CODE 4310-70-P